DEPARTMENT OF COMMERCE

National Institute of Standards and Technology

NIST Blue Ribbon Commission on Management and Safety

AGENCY: National Institute of Standards and Technology, Department of Commerce.

ACTION: Notice of public meeting.

SUMMARY: Pursuant to the Federal Advisory Committee Act, 5 U.S.C. app. 2, notice is hereby given that the NIST Blue Ribbon Commission on Management and Safety, National Institute of Standards and Technology (NIST) will meet Wednesday, September 17, from 9 a.m.-5 p.m. on the NIST campus in Gaithersburg, MD. This notice is in follow-up to the preliminary notice of a public meeting by the Commission on August 15, 2008, (Ref. Federal Register Notice: August 15, 2008 (Volume 73, Number 159, pages 47882-47883). The Blue Ribbon Commission on Management and Safety is composed of 7 members appointed by the Secretary of Commerce who are eminent in one or more of the following areas:

• Management and organizational structure;

• Training and human resources operations;

• Laboratory management and safety;

• Hazardous materials safety;

• Emergency medical response;

• Environmental safety;

• Environmental remediation; and

• Security for hazardous materials.

The purpose of this meeting is to review and ultimately provide advice to the Department of Commerce on whether (a) The training, safety, security, and response protocols, (b) the implementation of those protocols and internal controls, and (c) the management structure at NIST are appropriate to ensure safe operations of all NIST programs. The agenda for this meeting will focus on NIST safety and management structure as well as a discussion of the findings from recent safety audits and investigations. The agenda may change to accommodate Commission business.

DATES: The meeting will convene on September 17, 2008 at 9 a.m. and will adjourn at 5 p.m

ADDRESSES: The meeting will be held at the National Institute of Standards and Technology, Administration Building, Gaithersburg, Maryland 20899. To enable NIST to make arrangements to admit visitors to the NIST campus, anyone wishing to attend this meeting should submit name, e-mail address and phone number to Mary Lou Norris (marylou.norris@nist.gov) no later than September 15, 2008.

FOR FURTHER INFORMATION CONTACT: Mary Lou Norris, National Institute of Standards and Technology, Building 101, MS 1071, 100 Bureau Drive, Gaithersburg, MD, 20899; telephone: (301) 975-2002; e-mail: marylou.norris@nist.gov.

Dated: September 8, 2008.
James M. Turner,
Deputy Director.

[FR Doc. E8-21340 Filed 9-11-08; 8:45 am]

BILLING CODE 3510-13-P